DEPARTMENT OF LABOR

Employment and Training Administration

[TA-W-56,808]

Hydro Gate Acquisition Company, Inc.; Commerce City, CO; Notice of Termination of Investigation

Pursuant to Section 221 of the Trade Act of 1974, as amended, an investigation was initiated on March 24, 2005, in response to a worker petition filed by a company official on behalf of workers at Hydro Gate Acquisition, Inc., Commerce City, Colorado.

The Department issued a certification regarding eligibility to apply for worker adjustment assistance and alternative trade adjustment assistance relating to the petitioning group of workers on February 7, 2005 (TA-W-56,352). Consequently, further investigation would serve no purpose, and the investigation has been terminated.

Signed at Washington, DC, this 25th day of March 2005.
Elliott S. Kushner,
Certifying Officer, Division of Trade Adjustment Assistance.

[FR Doc. E5-1529 Filed 4-4-05; 8:45 am]

BILLING CODE 4510-30-P